ENVIRONMENTAL PROTECTION AGENCY

[EPA-HQ-OPP-2015-0301; FRL-9939-34]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2015 to September 30, 2015 to control unforeseen pest outbreaks.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption or denial.

B. How can I get copies of this document and other related information?

The docket for this action, identified by docket identification (ID) number EPA-HQ-OPP-2015-0301 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted or denied emergency exemptions to the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

California

Department of Environmental Protection

Crisis exemption: On August 27, 2015 the California Department of Environmental Protection declared a crisis for the use of methoxyfenozide on rice to control armyworms.

Delaware

Department of Agriculture

Specific Exemption: EPA authorized the use of dinotefuran on pome fruit and stone fruit to control the brown marmorated stinkbug; July 16, 2015 to October 15, 2015.

Florida

Department of Agriculture and Consumer Services

Specific Exemption: EPA authorized the use of streptomycin sulfate on grapefruit to control citrus canker; July 1, 2015 to July 1, 2016.

Kentucky

Department of Agriculture

Specific Exemption: EPA authorized the use of sulfoxaflor on sorghum to control sugarcane aphid; August 10, 2015 to November 30, 2015.

Maryland

Department of Agriculture

Specific Exemption: EPA authorized the use of dinotefuran on pome fruit and stone fruit to control the brown marmorated stinkbug; July 16, 2015 to October 15, 2015.

Department of Health and Mental Hygiene

Crisis exemptions: On July 7, 2015 the Maryland Department of Health and Mental Hygiene declared crisis exemptions for the use of ethylene oxide, formaldehyde, hydrogen peroxide, paracetic acid, and sodium hypochlorite to inactivate Bacillus anthracis (anthrax) spores in laboratories that processed samples originating from Dugway Proving Ground potentially containing viable anthrax spores.

Michigan

Department of Agriculture and Rural Development

Specific Exemption: EPA authorized the use of dinotefuran on pome fruit and stone fruit to control the brown marmorated stinkbug; July 16, 2015 to November 30, 2015.

Mississippi

Department of Agriculture and Commerce

Denial: On July 27, 2015 EPA denied the use of a pesticide product containing the active ingredient thiamethoxam on sorghum to control sugarcane aphid. This request was denied because the Agency determined the situation did not meet criteria to be considered an urgent and non-routine situation, and a specific exemption under section 18 was not justified.

New Jersey

Department of Environmental Protection

Specific Exemptions: EPA authorized the use of dinotefuran on pome fruit and stone fruit to control the brown marmorated stinkbug; September 15, 2015 to October 15, 2015.

EPA authorized the use of bifenthrin on apple, peach and nectarine to control the brown marmorated stinkbug; September 21, 2015 to October 15, 2015.

New Mexico

Department of Agriculture

Specific Exemption: EPA authorized the use of sulfoxaflor on sorghum to control sugarcane aphid; August 28, 2015 to November 30, 2015.

New York

Department of Environmental Conservation

Specific Exemption: EPA authorized the use of bifenthrin on apple, peach and nectarine to control the brown marmorated stinkbug; July 30, 2015 to October 15, 2015.

North Carolina

Department of Agriculture and Consumer Services

Specific Exemptions: EPA authorized the use of dinotefuran on pome fruit and stone fruit to control the brown marmorated stinkbug; July 16, 2015 to October 15, 2015.

EPA authorized the use of sulfoxaflor on sorghum to control sugarcane aphid; July 16, 2015 to November 30, 2015.

Pennsylvania

Department of Agriculture

Specific Exemption: EPA authorized the use of dinotefuran on pome fruit and stone fruit to control the brown marmorated stinkbug; July 16, 2015 to October 15, 2015.

South Dakota

Department of Agriculture

Specific Exemption: EPA authorized the use of hop beta acids on beehives to control the varroa mite; August 19, 2015 to December 31, 2015.

Tennessee

Health Department

Crisis exemption: On July 29, 2015 the Tennessee Health Department declared a crisis for the use of hydrogen peroxide to inactivate Bacillus anthracis (anthrax) spores in laboratories that processed samples originating from Dugway Proving Ground potentially containing viable anthrax spores.

Virginia

Department of Agriculture and Consumer Services

Specific Exemption: EPA authorized the use of dinotefuran on pome fruit and stone fruit to control the brown marmorated stinkbug; July 16, 2015 to October 15, 2015.

West Virginia

Department of Agriculture

Specific Exemption: EPA authorized the use of dinotefuran on pome fruit and stone fruit to control the brown marmorated stinkbug; July 16, 2015 to October 15, 2015.

B. Federal Departments and Agencies

Department of Agriculture

Animal and Plant Health Inspection Service

Quarantine Exemptions: EPA authorized the use of sodium chlorite to produce chlorine dioxide gas for decontamination of poultry facilities from avian influenza virus; August 4, 2015 to August 4, 2018.

EPA authorized the use of sodium hypochlorite on surfaces to decontaminate from foot and mouth disease, African swine flu and classical swine flu; September 17, 2015 to September 17, 2018.

EPA authorized the uses of sodium hypochlorite and sodium hydroxide to decontaminate surfaces potentially exposed to prions, the causal agents of transmissible spongiform encephalitic diseases in livestock; September 25, 2015 to September 25, 2018.

Authority: 7 U.S.C. 136 et seq.

Dated: December 2, 2015.
Susan Lewis,
Director, Registration Division, Office of Pesticide Programs.

[FR Doc. 2015-31055 Filed 12-8-15; 8:45 am]

BILLING CODE 6560-50-P